DEPARTMENT OF TRANSPORTATION

Maritime Administration

[Docket Number MARAD-2014-0127]

Information Collection for Quarterly Readiness of Strategic Seaport Facilities Reporting

AGENCY: Maritime Administration.

ACTION: Notice of new information collection.

SUMMARY: In accordance with the Paperwork Reduction Act of 1995, this notice announces the Maritime Administration's (MARAD's) intention to request the approval for three years of a an information collection related to facilities listed in its pre-emergency standby Port Planning Orders (PPOs). MARAD issues PPOs to the Department of Defense-designated Strategic Commercial Seaports in order to provide the Department of Defense (DoD) port facilities in support of military deployments during national emergencies. To ensure port capabilities and status, MARAD seeks to obtain approval to collect quarterly readiness reports from these DOD-designated facilities.

DATES: Comments should be submitted on or before November 24, 2014.

ADDRESSES: You may submit comments identified by DOT Docket Number MARAD-2014-0127 by any of the following methods:

• Web site/Federal eRulemaking Portal: Go to http://www.regulations.gov. Follow the instructions for submitting comments on the electronic docket site.

• Mail or Hand Delivery to: Docket Management Facility, U.S. Department of Transportation, 1200 New Jersey Avenue SE., West Building, Room W12-140, Washington, DC 20590, between 9 a.m. and 5 p.m., Monday through Friday, except on Federal holidays.

• Facsimile/Fax to: (202) 493-2251.

Instructions: All submissions must include the agency name and docket number for this rulemaking.

Note: All comments received will be posted without change to http://www.regulations.gov including any personal information provided.

Docket: For access to the docket to read comments received, go to http://www.regulations.gov at any time or to Room W12-401 of the Department of Transportation, 1200 New Jersey Avenue SE., Washington, DC, between 9 a.m. and 5 p.m., Monday through Friday, except Federal Holidays.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov.

FOR FURTHER INFORMATION CONTACT: Nuns Jain, (757) 322-5801, Maritime Administration, U.S. Department of Transportation, 7737 Hampton Boulevard, Building 19, Suite 300, Norfolk, VA 23505 or Email: nuns.jain@dot.gov.

SUPPLEMENTARY INFORMATION: Title of Information Collection: Information Collection for Quarterly Readiness of Strategic Seaport Facilities Reporting.

Type of Request: New information collection.

OMB Control Number: 2133-NEW.

Form Numbers: TBD.

Expiration Date of Approval: Three years from date of approval by the Office of Management and Budget.

Summary of Collection of Information: Quarterly reports will seek information related to berthing capability, staging and general availability of the port by readiness hours.

Need and Use of the Information: This collection of information MARAD will ensure the preparedness of Strategic Commercial Seaports in support of military deployments during national emergencies.

Description of Respondents: Strategic Commercial Seaports who have been designated by the Commander, Military Surface Deployment and Distribution Command (SDDC) and who have been issued a PPO by MARAD.

Number of Respondents: 16.

Frequency of Response: 4.

Estimated Timer per Response: 1 hour.

Annual Responses: 64 responses.

Estimated Total Annual Burden: 64 hours.

Background: Pursuant to the Defense Production Act of 1950, as amended (Pub. L. 111-67), EO 13603, EO 12656 and 46 CFR part 340, MARAD works with the DoD to ensure national defense preparedness. Accordingly, MARAD issues Port Planning Orders (PPOs) to Department of Defense-designated Strategic Commercial Seaports in order to provide the Department of Defense (DoD) port facilities in support of military deployments during national emergencies. The proposed collection of quarterly information is necessary to validate the port's ability to provide the PPO delineated facilities to the DoD within the PPO delineated time frame.

In a February 2, 2014 report entitled STRATEGIC SEAPORTS: Opportunities Exist to Improve Interagency Coordination, Readiness Reporting, and Port Preparedness, the Government Accounting Office (GAO) recommended that MARAD collect readiness data from strategic commercial ports. This information will be used by MARAD to assist DoD in establishing overall contingency plans necessary to meet national emergency preparedness requirements.

Public Comments Invited: You are asked to comment on any aspect of this information collection, including: 1. Whether this information collection is necessary for proper performance of the functions of the agency and will have practical utility; 2. the continued accuracy of the burden estimates; 3. ways to enhance the quality, utility, and clarity of the information to be collected; and 4. ways that the burden could be minimized without reducing the quality of the collected information.

Authority: 49 CFR 1.93.

* * * * *

Dated: September 18, 2014.
By Order of the Maritime Administrator,
Julie P. Agarwal,
Secretary, Maritime Administration.

[FR Doc. 2014-22604 Filed 9-22-14; 8:45 am]

BILLING CODE 4910-81-P